DEPARTMENT OF TRANSPORTATION

Federal Aviation Administration

Noise Compatibility Program for Chicago Executive Airport, Cook County, Illinois

AGENCY: Federal Aviation Administration, DOT.

ACTION: Acceptance of Chicago Executive Airport noise exposure map.

SUMMARY: The Federal Aviation Administration (FAA) announces its determination that the noise exposure map submitted by Chicago Executive Airport is in compliance with applicable statutory and regulatory requirements.

DATES: The effective date of the FAA's determination on the noise exposure map is May 28, 2024.

FOR FURTHER INFORMATION CONTACT: Craig Pullins, 2300 Devon Avenue, Suite 312, Des Plaines, Illinois 60018. 847-294-7354.

SUPPLEMENTARY INFORMATION: The FAA determined the noise exposure map submitted by Chicago Executive Airport, is in compliance with applicable statutory and regulatory requirements, effective May 28, 2024. Under title 49, United States Code (U.S.C.) section 47503, an airport operator may submit to the FAA, noise exposure maps depicting non-compatible uses as of the date such map is submitted, a description of estimated aircraft operations during a forecast period that is at least five years in the future and how those operations will affect the map. A noise exposure map must be prepared in accordance with title 14, Code of Federal Regulations (CFR) part 150, the regulations promulgated pursuant to 49 U.S.C. 47502 and developed in consultation with public agencies and planning authorities in the area surrounding the airport, state and Federal agencies, interested and affected parties in the local community, and aeronautical users of the airport. In addition, an airport operator that submitted a noise exposure map, which the FAA determined is compliant with statutory and regulatory requirements, may submit a noise compatibility program for FAA approval that sets forth measures the operator has taken or proposes to take to reduce existing non-compatible uses and prevent the introduction of additional non-compatible uses.

The FAA completed its review of the noise exposure map and supporting documentation submitted by the Cities of Wheeling & Prospect Heights and determined the noise exposure map and accompanying documentation are in compliance with applicable requirements.

The documentation that constitutes the Noise Exposure Map includes: Figure 2-1 Airport Location Map; Figure 2-2 Airport Diagram; Table 2-1 Airport Facilities; Table 2-3 Published Arrival Procedures; Table 2-4 Published Departure Procedures; Figure 4-1 Land Use; Table 5-1 2022 and 2027 Annual Aircraft Operations; Table 5-2 2022 and 2027 AEDT Operations and Fleet; Table 5-3 2022 and 2027 AEDT Aircraft Percent Time of Day; Table 5-4 2022 Overall Runway Use; Table 5-5 2022 Modeled Runway Use by Aircraft Category; Table 5-6 2027 Modeled Runway Use by Aircraft Category; Table 5-7 Modeled Flight Track Use by Aircraft Category—Departures; Table 5-8 Modeled Flight Track Use by Aircraft Category—Arrivals; Figure 5-1 AEDT Modeled Aircraft Flight Tracks—Runway 16; Figure 5-2 AEDT Modeled Aircraft Flight Tracks—Runway 34; Figure 5-3 AEDT Modeled Aircraft Flight Tracks—Runway 12; Figure 5-4 AEDT Modeled Aircraft Flight Tracks—Runway 30; Figure 5-5 AEDT Modeled Aircraft Flight Tracks—Runway 6; Figure 5-6 AEDT Modeled Aircraft Flight Tracks—Runway 24; Figure 5-7 AEDT Modeled Aircraft Flight Tracks—All Runways; Table 6-1 Land Use Within the 2022 DNL Contours; Table 6-2 Population and Housing Units Within the 2022 DNL Contours; Figure 6-1 2022 DNL Contours; Table 6-3 Land Use Within the 2027 DNL Contours; Table 6-4 Population and Housing Units Within the 2027 DNL Contours; Table 6-5 Change in Land Use from 2022 to 2027; Table 6-6 Change in Population and Housing Units From 2022 to 2027; Figure 6-2 2027 DNL Contours; Figure 6-3 2022 and 2027 DNL Contours—North of PWK; Figure 6-4 2022 and 2027 DNL Contours—South of PWK; Appendix G 2022 Noise Exposure Map; Appendix G 2022 Aircraft Flight Tracks—Arrivals; Appendix G 2022 Aircraft Flight Tracks—Departures; Appendix G 2027 Noise Exposure Map; Appendix G 2027 Aircraft Flight Tracks—Arrivals; Appendix G 2027 Aircraft Flight Tracks—Departures required by 14 CFR 150.101 and 49 U.S.C. 47503 and 47506. This determination is effective on May 28, 2024. FAA's determination on an airport's noise exposure map is limited to a finding that the noise exposure map was developed in accordance with the 49 U.S.C. 47503 and 47506 and procedures contained in 14 CFR part 150, appendix A. FAA's acceptance of an NEM does not constitute approval of the applicant's data, information or plans, or a commitment to approve a noise compatibility program or to fund the implementation of that program. If questions arise concerning the precise relationship of specific properties within noise exposure contours depicted on a noise exposure map, it should be noted that the FAA is not involved in any way in determining the relative locations of specific properties with regard to the depicted noise contours or in interpreting the noise exposure maps to resolve questions concerning, for example, which properties should be covered by the provisions of 49 U.S.C. 47506.

These functions are inseparable from the ultimate land use control and planning responsibilities of local government. These local responsibilities are not changed in any way under 14 CFR part 150 or through FAA review and acceptance of a noise exposure map. Therefore, the responsibility for the detailed overlaying of noise exposure contours onto the map depicting properties on the surface rests exclusively with the airport operator that submitted a noise exposure map or with those public and planning agencies with which consultation is required under 49 U.S.C. 47503. The FAA relied on the certification by the airport operator, under of 14 CFR 150.21 that the required consultations and opportunity for public review has been accomplished during the development of the noise exposure maps. Copies of the noise exposure map and supporting documentation and the FAA's evaluation of the noise exposure maps are available for examination at the following locations:

Federal Aviation Administration Chicago Airports District Office, 2300 Devon Avenue, Suite 312, Des Plaines, IL 60018, and Chicago Executive Airport at 1020 S. Plant Road, Wheeling, IL 60090. Questions may be directed to the individual listed in the FOR FURTHER INFORMATION CONTACT section of this notice.

Issued in Des Plaines, Illinois on May 28, 2024.

Debra L. Bartell,
Manager, Chicago Airports District Office, FAA Great Lakes Region.

[FR Doc. 2024-12032 Filed 5-31-24; 8:45 am]

BILLING CODE 4910-13-P